FEDERAL COMMUNICATIONS COMMISSION

[FRS 16562]

Federal Advisory Committee Act; Task Force for Reviewing the Connectivity and Technology Needs of Precision Agriculture in the United States

AGENCY: Federal Communications Commission.

ACTION: Amendment to notice of public meeting.

SUMMARY: In accordance with the Federal Advisory Committee Act, this notice advises interested persons that the Federal Communications Commission's (FCC or Commission) Task Force for Reviewing the Connectivity and Technology Needs of Precision Agriculture in the United States (Task Force) will hold its second meeting via live internet link.

DATES: March 25, 2020.

ADDRESSES: The meeting will be held via conference call and available to the public via live feed from the FCC's web page at www.fcc.gov/live.

FOR FURTHER INFORMATION CONTACT: Jesse Jachman, Designated Federal Officer, Federal Communications Commission, Wireline Competition Bureau, (202) 418-2668, or email: Jesse.Jachman@fcc.gov; Erin Boone, Deputy Designated Federal Officer, Federal Communications Commission, Wireless Telecommunications Bureau, (202) 418-0736, or email: Erin.Boone@fcc.gov; or Celia Lewis, Deputy Designated Federal Officer, Federal Communications Commission, Wireline Competition Bureau, (202) 418-7456, or email Celia.Lewis@fcc.gov.

SUPPLEMENTARY INFORMATION: The notice of this meeting was first published in the Federal Register on March 5, 2020. This amendment is to inform the public that the meeting will be held electronically only.

The meeting will be held on March 25, 2020, at 9:30 a.m. EDT and may be viewed live, by the public, at http://www.fcc.gov/live. Any questions that arise during the meeting should be sent to PrecisionAgTF@fcc.gov and will be answered at a later date. Members of the public may submit comments to the Task Force in the FCC's Electronic Comment Filing System, ECFS, at www.fcc.gov/ecfs. Comments to the Task Force should be filed in GN Docket No. 19-329. The meeting is being moved to a wholly electronic format in light of travel restrictions affecting members of the Task Force related to the ongoing increase in coronavirus (COVID-19) cases.

Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the FCC can contact you if it needs more information. Please allow at least five days' advance notice; last-minute requests will be accepted but may be impossible to fill.

Proposed Agenda: At this meeting, the Task Force will provide updates on Task Force administration; review and discuss programs and policies relevant to the Task Force's duties; and discuss recent agricultural industry-wide events related to broadband deployment and precision agriculture technologies. This agenda may be modified at the discretion of the Task Force Chair and the Designated Federal Officer.

Good Cause for Late Notice: This Amendment to Notice of public meeting is being published less than 15 days before the meeting date of March 25, 2020. There is good cause for this late notice. Specifically, travel restrictions affecting members of the Task Force related to the ongoing increase in COVID-19 cases, have led the Commission to conclude that, in an abundance of caution, an electronic meeting is appropriate. The Commission has also announced this amendment to the public meeting by Public Notice posted on https://www.fcc.gov/task-force-reviewing-connectivity-and-technology-needs-precision-agriculture-united-states.

Federal Communications Commission.
Cecilia Sigmund,
Federal Register Liaison.

[FR Doc. 2020-05829 Filed 3-19-20; 8:45 am]

BILLING CODE 6712-01-P